DEPARTMENT OF THE INTERIOR

Bureau of Land Management

[NV-030-1990-EX]

Notice of Intent To Prepare an Environmental Impact Statement for the Oil-Dri Corporation Reno Clay Project Plan of Operations

AGENCY: Bureau of Land Management, Carson City Field Office, Carson City, Nevada

ACTION: Notice of intent to prepare an environmental impact statement (EIS) for the Oil-Dri Corporation Reno Clay Project mining plan of operations; and notice of scoping period and public meetings.

SUMMARY: The Bureau of Land Management (BLM), Carson City Field Office will direct the preparation of an EIS to be produced by a third-party contractor on the impacts (direct, indirect, and cumulative) of a proposed clay mining operation in Washoe County, Nevada. The BLM invites comments on the scope of the analysis.

DATES: One public scoping meeting will be held on August 8, 2000 to allow the public an opportunity to identify issues and concerns to be addressed in the EIS. Representatives of the BLM and Oil-Dri Corporation will be available to answer questions about the proposed Reno Clay Project and the EIS process. Comments will be accepted until August 21, 2000.

The scheduled public meeting is:

Reno, NV (5:30-7:30 p.m.)—August 8, 2000.

Reno-Sparks Convention Center, North Meeting Room B-1, 4590 S. Virginia St., Reno, NV.

A Draft EIS (DEIS) is expected to be completed by December, 2000 and made available for public review and comment. At that time a Notice of Availability (NOA) of the DEIS will be published in the Federal Register. The comment period on the DEIS will be 60 days from the date the NOA is published.

FOR FURTHER INFORMATION: Scoping comments may be sent to: Bureau of Land Management, 5665 Morgan Mill Road, Carson City, NV 89701. ATTN: Clay EIS Project Manager. For additional information, write to the above address or call Terri Knutson, EIS Project Manager at (775) 885-6156.

SUPPLEMENTARY INFORMATION: In July 1999 Oil-Dri Corporation of Nevada submitted a plan of operations to the BLM Carson City Field Office for a clay mining operation in Hungry Valley. The plan of operations was held in abeyance pending a determination of locatability under the mining law until May 2000 when the clay mineral was determined locatable by BLM mineral examiners. At that time processing of the plan of operations commenced and BLM managers determined an environmental impact statement (EIS) would be prepared to analyze potential impacts resulting from the mining operations. The proposed mining operation would occur in phases over 20 years, in two pits, on a total of 340 acres of the 6,000 acres of mining claims Oil-Dri holds in the area. The processing plant for drying, crushing, and packaging of the clay material (cat litter) would be located on Oil-Dri private land located to the south of the mine area. Initially, the mine and processing plant would employ approximately 50 individuals, with an increase to 100 employees over time with expanded production.

The EIS will address issues brought forth through scoping comments and will be evaluated by an interdisciplinary team of specialists. A range of alternatives and mitigating measures will be considered to evaluate and minimize environmental impacts and to assure that the proposed action does not result in undue or unnecessary degradation of public lands.

Federal, state, and local agencies and other individuals or organizations who may be interested in or affected by the BLM decision on the proposed plan of operations are invited to participate in the scoping process with respect to this environmental analysis. These entities and individuals are also invited to submit comments on the DEIS.

It is important that those interested in the proposed activities participate in the scoping and commenting processes. Comments should be as specific as possible.

The project schedule is as follows:

Begin Public Comment Period—July, 2000.

Issue Draft EIS—December 2000.

Issue Final EIS—May 2001.

Issue Record of Decision—June 2001.

The BLM's scoping process for the EIS will include: (1) Identification of issues to be addressed; (2) identification of viable alternatives; (3) notification of interested groups, individuals, and agencies so that additional information concerning these issues, or other issues, can be obtained.

Comments, including names and addresses of respondents, will be available for public review at the above address during regular business hours (7:30 a.m.-5:00 p.m.), Monday through Friday and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

Dated: July 10, 2000.
John Singlaub,
Manager, Carson City Field Office.

[FR Doc. 00-17838 Filed 7-13-00; 8:45 am]

BILLING CODE 4310-HC-U